FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 8325N.

Name: Happy Express, Inc.

Address: 720 South Hindry Avenue, Inglewood, CA 90301.

Date Revoked: July 4, 2010.

Reason: Failed to maintain a valid bond.

License Number: 8904F.

Name: Port Jersey Shipping International Inc.

Address: 268 Seaview Avenue, Jersey City, NJ 07305.

Date Revoked: July 1, 2010.

Reason: Failed to maintain a valid bond.

License Number: 14742N.

Name: North China Cargo Service Inc.

Address: 636 Brea Canyon Road, Walnut, CA 91789.

Date Revoked: July 5, 2010.

Reason: Failed to maintain a valid bond.

License Number: 15465N.

Name: Patriot Forwarders, Inc. dba Airwave Express.

Address: 155 Diplomat Drive, Suite D, Columbia City, IN 46525.

Date Revoked: July 14, 2010.

Reason: Failed to maintain a valid bond.

License Number: 018193F.

Name: Cherokee Cargo Corporation.

Address: 6006 Lake Avenue, St. Joseph, MO 64504.

Date Revoked: July 20, 2010.

Reason: Failed to maintain a valid bond.

License Number: 018249N.

Name: JJB Trucking Services Corp. & Shipping.

Address: 809 Adams Avenue, Elizabeth, NJ 07201.

Date Revoked: July 1, 2010.

Reason: Failed to maintain a valid bond.

License Number: 018628N.

Name: Master Global Logistics, Inc.

Address: 758 South Glasgow Avenue, Inglewood, CA 90301.

Date Revoked: July 5, 2010.

Reason: Failed to maintain a valid bond.

License Number: 018790N.

Name: Flash Forwarding, Inc.

Address: 169 Spencer Avenue, Lynbrook, NY 11563.

Date Revoked: July 21, 2010.

Reason: Surrendered license voluntarily.

License Number: 019408F.

Name: C & L, USA, Inc. dba C&L Freight Srvs.

Address: 20 Broadhollow Road, Suite 1005, Melville, NY 11747.

Date Revoked: July 17, 2010.

Reason: Failed to maintain a valid bond.

License Number: 019622NF.

Name: Summer Breeze Transport, Inc.

Address: 1106 A1A North, Suite 100-A, Ponte Vedra Beach, FL 32004.

Date Revoked: July 12, 2010.

Reason: Surrendered license voluntarily.

License Number: 019848N.

Name: J.K. Trading Inc. dba JK Envios.

Address: 822 SW 17th Avenue, Miami, FL 33135.

Date Revoked: July 3, 2010.

Reason: Failed to maintain a valid bond.

License Number: 020486NF.

Name: Transportation Freight Group, LLC.

Address: 6025 Sandy Springs Circle, Suite 244, Atlanta, GA 30328.

Date Revoked: July 14, 2010.

Reason: Failed to maintain valid bonds.

License Number: 021246F.

Name: Around The World Shipping, Inc.

Address: 6726 Reseda Blvd., Suite A-10, Reseda, CA 91335.

Date Revoked: July 7, 2010.

Reason: Failed to maintain a valid bond.

License Number: 021413N.

Name: C&C International Logistics Inc.

Address: 99 West Hawthorne Avenue, Suite 620, Valley Stream, NY 11580.

Date Revoked: July 5, 2010.

Reason: Failed to maintain a valid bond.

License Number: 021535F.

Name: Westward Global LLC.

Address: 18800 8th Avenue South, Suite 210, Seatac, WA 98148.

Date Revoked: July 3, 2010.

Reason: Failed to maintain a valid bond.

License Number: 021685NF.

Name: G.S. Logistics, Inc.

Address: 4892 Dove Circle, La Palma, CA 90623.

Date Revoked: July 17, 2010.

Reason: Failed to maintain valid bonds.

Sandra L. Kusumoto,
Director, Bureau of Certification and Licensing.

[FR Doc. 2010-19145 Filed 8-3-10; 8:45 am]

BILLING CODE P